CIVIL RIGHTS COMMISSION

Notice of Public Meeting of the New Hampshire Advisory Committee

AGENCY: Commission on Civil Rights.

ACTION: Announcement of meeting.

SUMMARY: Notice is hereby given, pursuant to the provisions of the rules and regulations of the U.S. Commission on Civil Rights (Commission), and the Federal Advisory Committee Act (FACA), that a briefing of the New Hampshire Advisory Committee to the Commission will convene by web conference on Monday, May 17, 2021 at 4:00-5:00 p.m. (ET). The purpose of the web conference is to announce the release of its report on solitary confinement in New Hampshire and share findings and recommendations from the report.

DATES: Monday, May 17, 2021 from 4:00-5:00 p.m. (ET).

PUBLIC WEBEX CONFERENCE REGISTRATION LINK (video and audio): https://bit.ly/2Q72Req.

TO JOIN BY PHONE ONLY: Dial 1-800-360-9505; Access code: 199 227 9165.

FOR FURTHER INFORMATION CONTACT: Mallory Trachtenberg at mtrachtenberg@usccr.gov or by phone at (202) 809-9618.

SUPPLEMENTARY INFORMATION: The meeting is available to the public through the web link above. If joining only via phone, callers can expect to incur charges for calls they initiate over wireless lines, and the Commission will not refund any incurred charges. Individuals who are deaf, deafblind and hard of hearing. Individuals may also follow the proceedings by first calling the Federal Relay Service at 1-800-877-8339 and providing the Service with conference details found through registering at the web link above. To request additional accommodations, please email mtrachtenberg@usccr.gov at least 7 days prior to the meeting.

Members of the public are entitled to make comments during the open period at the end of the meeting. Members of the public may also submit written comments; the comments must be received in the Regional Programs Unit within 30 days following the meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda: Monday, May 17, 2021; 4:00-5:00 p.m. (ET)

1. Welcome and Roll call

2. Chair Remarks

3. Web Conference to Release Report on Solitary Confinement

a. Overview of Report Findings and Recommendations

b. Q&A from Attendees

4. Public Comment

5. Adjourn

Dated: April 15, 2021.
David Mussatt,
Supervisory Chief, Regional Programs Unit.

[FR Doc. 2021-08109 Filed 4-19-21; 8:45 am]

BILLING CODE P